DEPARTMENT OF TRANSPORTATION

Federal Aviation Administration

Operating Limitations at Newark Liberty International Airport, Notice of Request for Comment

AGENCY: Federal Aviation Administration (FAA), Department of Transportation.

ACTION: Notice of request for public comments.

SUMMARY: The FAA is issuing a request for public comment, which solicits the views of interested persons on the FAA's tentative determination to extend and amend through October 24, 2026, the June 10, 2025, order limiting the number of scheduled aircraft operations at Newark Liberty International Airport.

DATES: Comments may be submitted at any time but must be received by August 15, 2025.

ADDRESSES: You may submit written information, identified by docket number FAA-2008-0221, by any of the following methods:

• Federal eRulemaking Portal: Go to http://regulations.gov and follow the online instructions for sending your comments electronically.

• Mail: Send comments by mail to Docket Operations, U.S. Department of Transportation, M-30, Room W12-140, 1200 New Jersey Avenue SE, Washington, DC 20590-0001. Persons wishing to receive confirmation of receipt of their written submission should include a self-addressed stamped postcard.

• Hand Delivery: Deliver comments to Docket Operations in Room W12-140 on the ground floor of the West Building at 1200 New Jersey Avenue SE, Washington, DC, between 9 a.m. and 5 p.m., Monday through Friday, except Federal holidays.

Privacy: We will post all comments that we receive, without change, at http://www.regulations.gov, including any personal information that you provide. Using the search function of the docket website, anyone can find and read the electronic form of all comments in any of our dockets, including the name of the individual sending the comment or signing the comment on behalf of an association, business, labor union, or other entity or organization. You may review the DOT's complete Privacy Act Statement in the Federal Register at 65 FR 19477-78 (April 11, 2000), or you may find it at http://docketsinfo.dot.gov.

Reviewing the Docket: To read background documents or comments received, go to http://www.regulations.gov at any time and follow the online instructions for accessing the docket; or go to Docket Operations in Room W12-140 on the ground floor of the West Building at 1200 New Jersey Avenue SE, Washington, DC, between 9 a.m. and 5 p.m., Monday through Friday, except Federal holidays.

FOR FURTHER INFORMATION CONTACT: Al Meilus, Slot Administration and Capacity Analysis, FAA ATO System Operations Services, AJR-G5, Federal Aviation Administration, 800 Independence Avenue SW, Washington, DC 20591; telephone (202) 267-2822; email 7-awa-slotadmin@faa.gov.

SUPPLEMENTARY INFORMATION:

Request for Comment

The Federal Aviation Administration (FAA) has tentatively determined that it will amend and extend through October 24, 2026, the FAA's June 10, 2025, order limiting scheduled operations at Newark Liberty International Airport (EWR) (June 2025 order).¹ This request for comment invites air carriers and other interested persons to submit comments in Docket FAA-2008-0221 on this proposal to extend the duration of and amend the operating limitations of the June 2025 order to a rate of 72 hourly operations, an increase from the Summer 2025 scheduling season rate of 68 hourly operations, as explained below.

¹ See Operating Limitations at Newark Liberty International Airport, Order Establishing Targeted Scheduling Limits, 90 FR 24482 (June 10, 2025).

The June 2025 order followed a period of elevated delays caused by air traffic controller staffing challenges, construction, congestion, telecommunication issues at EWR, and a delay reduction meeting resulting in the FAA's issuance of an order limiting scheduled operations at EWR in June 2025. To reduce congestion, delays, and cancellations at EWR, the FAA engaged with air carriers serving EWR through the delay reduction process to reduce hourly operations through the end of the Summer 2025 scheduling season, October 25, 2025, and Saturdays from September 1, 2025, to December 31, 2025. From May 14 to May 16, 2025, the FAA hosted delay reduction meetings with carriers and the Port Authority of New York and New Jersey in Washington, DC.

The result of this effort was the June 2025 order which captured the agreed upon schedule reductions and limited the number of scheduled operations conducted by air carriers at EWR during the schedule facilitated hours. This order took effect on June 10, 2025, and in the absence of an extension, will expire in part on October 25, 2025, and in full on December 31, 2025. The FAA established the order's December 31, 2025, expiration date to encompass the remainder of the Summer 2025 scheduling season and the completion of runway construction planned for EWR's Runway 4L-22R.

The June 2025 order limits operations at two separate rates depending on the date of the operation. The order established two timeframes defined as the “construction period,” which is between the issuance of the interim order,² May 20, 2025, to June 15, 2025, and on weekends from September 1, 2025, through December 31, 2025, from Friday at 11 p.m. through 5 a.m. on Sunday, Eastern Time, and outside of the construction period covering the dates not included in the construction period through the end of the Summer 2025 scheduling season. During the construction period, the targeted limit is no more than 28 arrivals and 28 departures per hour. Outside of the construction period, until the close of the Summer 2025 scheduling season, October 25, 2025, the limit is no more than 34 arrivals and 34 departures per hour.

² See Operating Limitations at Newark Liberty International Airport, Interim Order Establishing Targeted Scheduling Limits, 90 FR 22147 (May 23, 2025).

In July 2024, the FAA transferred ATC oversight for the Newark area, known as Area C, to the Philadelphia TRACON (PHL). Presently, PHL's targeted staffing number remains 114 Certified Professional Controllers (CPCs); the current onboard number at PHL is 82, representing 71.9 percent staffed. Within PHL, Area C's targeted staffing number is 46 CPCs, with its current staff of 22 CPCs representing 48 percent staffed. Under an arrangement by the previous administration, by the end of July 2026, 14 CPCs currently assigned to Area C will return to the New York Terminal Radar Approach Control facility (N90), which previously oversaw the Newark area. ATO is taking action to replace those 14 CPCs. PHL now has a total of 31 trainees, with 26 assigned to Area C.

Since the June 2025 order took effect, the status of the staffing pipeline for PHL has not materially changed. In the absence of the FAA's extension of the order, the FAA anticipates a return of the staffing-related delays that precipitated the voluntary schedule reductions reflected in the June 2025 order. The hourly capacity at EWR has not increased significantly beyond a rate of 34 arrivals and departures, respectively, since the order took effect. The FAA expects the demand for operations at EWR to remain high and that an offer of additional, voluntary staffing-related relief would be insufficient to address the particular challenges present at EWR. As such, the FAA has determined that an extension of the June 2025 order is appropriate.

Separate from the delay reduction proceedings and June 2025 order, the Staffing-Related Relief is in place at EWR through the end of the Summer 2025 scheduling season.³ This relief is a continuation of relief initially published on September 30, 2023.⁴ The FAA originally issued this relief in order to address staffing deficiencies at N90 which formerly provided ATC services to JFK, LGA, and EWR. The COVID-19 pandemic had a detrimental effect on controller hiring at N90. Due to the complexity of the N90 airspace, the FAA issued a voluntary waiver for up to 10% of operations to alleviate the burden on the N90 controllers by reducing operations in this airspace. The FAA subsequently extended this voluntary relief through the Summer 2025 scheduling season. While many carriers have voluntarily reduced operations year over year under the waiver, the FAA acknowledges that this participation is voluntary, and carriers are not obligated to continue to return operations in any future offer of relief. Numerous carriers have already indicated to the FAA that they intend to increase operations during Summer 2026 to serve the major events happening in the New York City and Philadelphia regions, such as the FIFA World Cup or America250 celebration. As such, the FAA anticipates that carriers may not voluntarily return operations under another staffing-related waiver at the same rate as past seasons.

³ See Staffing-Related Relief Concerning Operations at Ronald Reagan Washington National Airport, John F. Kennedy International Airport, LaGuardia Airport, and Newark Liberty International Airport, October 27, 2024, Through March 29, 2025 (Winter 2024/2025) and March 30, 2025, Through October 25, 2025 (Summer 2025), 89 FR 49256, (June 11, 2024).

⁴ See Staffing-Related Relief Concerning Operations at Ronald Reagan Washington National Airport, John F. Kennedy International Airport, LaGuardia Airport, and Newark Liberty International Airport, October 29, 2023, Through March 30, 2024 (Winter 2023/2024) and March 31, 2024, Through October 26, 2024 (Summer 2024), 88 FR 64793 (September 20, 2023).

While the FAA has quickly moved to reinforce telecommunications capabilities at PHL and the construction period will only be limited to Saturdays between September 1, 2025, through December 31, 2025, the FAA believes that a temporary extension and amendment of the June 2025 order is necessary to efficiently address the remaining staffing deficiencies. The FAA proposes a rate of 72 hourly operations, or 36 arrivals and 36 departures per hour, outside of the construction period, October 26, 2025, through March 28, 2026 (Winter 2025/2026) and March 29, 2026, through October 24, 2026 (Summer 2026).

While the FAA continues to address the staffing challenges at EWR and evaluate long-term options for EWR, the FAA tentatively intends to extend and amend the June 2025 order to mitigate congestion, delays, and cancellations at EWR for the Winter 2025/2026 and Summer 2026 scheduling seasons. The operating limitations reflect the FAA's agreements with air carriers that operate at EWR and operational improvements put in place since the May 2025 delay reduction proceedings. The terms of the order include conditions for operations for an additional, finite period, allowing the FAA to observe results and make adjustments as warranted, such as increasing capacity. The order constitutes a reasonable approach to preventing unacceptable congestion and delays at EWR until long term measures are implemented. The June 2025 order, if extended, would expire on October 24, 2026.

Similar to the delay reduction meetings, the FAA will include air carriers as defined by 49 U.S.C. 40102.⁵ The FAA will work with foreign carriers using the IATA guidelines to address any voluntary reductions foreign carriers would like to propose during this period.

⁵ “Air carrier” means a citizen of the United States undertaking by any means, directly or indirectly, to provide air transportation. 49 U.S.C. 40102(a)(2).

Accordingly, the FAA requests that interested persons comment on why the FAA should not make final its tentative decision to extend and amend the June 2025 order through October 26, 2026, by filing their written views in Docket FAA-2008-0221. The FAA does not intend this request for the views of interested persons to address any issues related to future congestion management beyond what has been proposed. Therefore, any submission to the current docket should be limited to the proposed extension and amendment of the June 2025 order.

Further, the FAA seeks public comment on the method that should be used to achieve the new rate of 72 hourly operations for the Winter 2025/2026 and Summer 2026 schedules. The FAA is considering several options, and requests public comment on these and other potential allocation methods. These options are described below. There is no significance to the order in which they appear. Commenters may also propose alternatives to the options listed below.

The FAA is considering an allocation methodology based on proportionality to the number of operations given up by each air carrier in the summer schedule to distribute the incremental operations for the Winter 2025/2026 season. Under this scenario, the FAA would apply equivalent reductions agreed upon in the Summer 2025 season to the approved Winter 2025/2026 baseline schedule and then proportionately allocate the four new operations per hour up to the new 72 operations per hour cap, based on air carriers' prior reductions.

The FAA is also considering using a reverse weighted lottery to withdraw operations, using the approved Winter 2025/2026 baseline schedule with the objective of achieving an operational capacity of 72 operations per hour for the Winter 2025/2026 schedule. For the Summer 2026 schedule, the FAA would use the Summer 2025 schedule under the June order as the baseline and a weighted lottery to allocate the additional four operations per hour. The FAA welcomes comments from carriers on how to structure such a lottery, including what baseline schedule should be used.

An additional option that the FAA is considering is convening a new round of delay reduction meetings pursuant to 49 U.S.C. 41722 to negotiate reductions to the 72 operations per hour target. This could be based on the approved Winter 2025/2026 baseline schedule or the FAA could roll over the agreed-upon hourly reductions from the Summer 2025 season to the Winter 2025/2026 approved baseline schedule and utilize the delay reduction meeting to reverse some of the negotiated reductions to achieve the new 72 operations per hour target. The meeting-based options may allow the FAA to take into account commercially sensitive or network-specific preferences in a more dynamic process, provided such preferences preserve competition and meet the overall public interest objective of reaching 72 operations per hour.

The FAA requests comments on these or other potential options.

Issued in Washington, DC, on August 8, 2025.
William H.W. McKenna,
Chief Counsel.

[FR Doc. 2025-15301 Filed 8-8-25; 4:15 pm]

BILLING CODE 4910-13-P